DEPARTMENT OF STATE

[Public Notice 8148]

Shipping Coordinating Committee; Notice of Committee Meeting

The Shipping Coordinating Committee (SHC) will conduct an open meeting at 10:30 a.m. on Wednesday February 27, 2013, in Room 5-1224 of the United States Coast Guard Headquarters Building, 2100 Second Street SW., Washington, DC 20593-0001. The primary purpose of the meeting is to prepare for the twenty-first session of the International Maritime Organization's (IMO) Flag State Implementation Sub-Committee to be held at the IMO Headquarters, London, England, United Kingdom, March 4-8, 2013.

The matters to be considered include:

Adoption of the agenda

Decisions of other IMO bodies

Responsibilities of Governments and measures to encourage flag State compliance;

Mandatory reports under International Convention for the Prevention of Pollution from Ships, 1973, as modified by the Protocol of 1978 (MARPOL 73/78);

Casualty statistics and investigations;

Harmonization of port State control activities;

Port State Control (PSC) Guidelines on seafarers' hours of rest and PSC guidelines in relation to the Maritime Labour Convention, 2006;

Development of guidelines on port State control under the 2004 Ballast Water Management (BWM) Convention;

Comprehensive analysis of difficulties encountered in the implementation of IMO instruments;

Review of the Survey Guidelines under the Harmonized System of Survey and Certification (HSSC) and the annexes to the Code for the Implementation of Mandatory IMO Instruments;

Consideration of International Association of Classification Societies (IACS) unified interpretations;

Measures to protect the safety of persons rescued at sea

Illegal unregulated and unreported (IUU) fishing and related matters

Review of general cargo ship safety

Election of Chairman and Vice-Chairman for 2014

Any other business

Members of the public may attend this meeting up to the seating capacity of the room. To facilitate the building security process, and to request reasonable accommodation, those who plan to attend should contact the meeting coordinator, Mr. E.J. Terminella, by email at Emanuel.J.TerminellaJr@uscg.mil; by phone at (202) 372-1239; or in writing at Commandant (CG-CVC), U.S. Coast Guard Headquarters, 2100 2nd Street SW., STOP 7581, Washington, DC 20593-7581. Requests should be made no later than February 19, 2013. Requests made after this date might not be able to be accommodated. Please note that due to security considerations, two valid, government issued photo identifications must be presented to gain entrance to the Headquarters building. The Headquarters building is accessible by taxi and privately owned conveyance (public transportation is not generally available), however, parking in the vicinity of the building is extremely limited. Additional information regarding this and other IMO SHC public meetings may be found at: www.uscg.mil/imo.

Dated: January 4, 2013.
Brian Robinson,
Executive Secretary, Shipping Coordinating Committee, Department of State.

[FR Doc. 2013-00441 Filed 1-10-13; 8:45 am]

BILLING CODE 4710-09-P